DEPARTMENT OF JUSTICE

Antitrust Division

Notice Pursuant to the National Cooperative Research and Production Act of 1993—Rotorcraft Industry Technology Association, Inc. (“RITA”)

Notice is hereby given that, on September 27, 2002, pursuant to Section 6(a) of the National Cooperative Research and Production Act of 1993, 15 U.S.C. 4301 et seq. (“the Act”), Rotorcraft Industry Technology Association, Inc. (“RITA”) has filed written notifications simultaneously with the Attorney General and the Federal Trade Commission disclosing changes in its membership and production status. The notification were filed for the purpose of extending the Act's provisions limiting the recovery of antitrust plaintiffs to actual damages under specified circumstances. Specifically, The University of Michigan, Ann Arbor, MI and Syracuse University, Syracuse, NY have been added as parties to this venture; and Kaman Aerospace Corporation, Bloomfield, CT has changed its membership status from Supporting Member to Principal Member. Additionally, RITA has entered into a Technology Investment Agreement with the U.S. Army Aviation and Applied Technology Directorate, on behalf of the U.S. Government, on February 23, 2002.

No other changes have been made in either the membership or planned activity of the group research project. Membership in this group research project remains open, and RITA intends to file additional written notification disclosing all changes in membership.

On September 28, 1995, RITA filed its original notification pursuant to Section 6(a) of the Act. The Department of Justice published a notice in the Federal Register pursuant to Section 6(b) of the Act on April 3, 1996 (61 FR 14817).

The last notification was filed with the Department of March 22, 2001. A notice was published in the Federal Register pursuant to Section 6(b) of the Act on April 24, 2001 (66 FR 20686).

Constance K. Robinson,
Director of Operations, Antitrust Division.

[FR Doc. 02-28138 Filed 11-9-02; 8:45 am]

BILLING CODE 4410-11-M